DEPARTMENT OF TRANSPORTATION

Federal Aviation Administration

14 CFR Part 97

[Docket No. 30385; Amdt. No. 3073 ]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective September 9, 2003. The compliance date for each SIAP is specified in the amendatory provisions.

The incorporation by reference of certain publications listed in the regulations is approved by the Director of the Federal Register as of September 9, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: PO Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on August 29, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective October 30, 2003

Ambler, AK, Ambler, RNAV (GPS) Y RWY 36, Orig

Ambler, AK, Ambler, RNAV (GPS) Z RWY 36, Orig

Ambler, AK, Ambler, RNAV (GPS) RWY 36, Orig, CANCELLED

Anchorage, AK, Ted Stevens Anchorage Intl, RNAV (GPS) RWY 6L, Orig-B

Anchorage, AK, Ted Stevens Anchorage Intl, RNAV (GPS) RWY 6R, Orig-B

Bethel, AK, Bethel, RNAV (GPS) RWY 18, Orig-C

Bethel, AK, Bethel, RNAV (GPS) RWY 36, Orig-C

Fairbanks, AK, Fairbanks Intl, RNAV (GPS) Y RWY 1L, Orig-B

Fairbanks, AK, Fairbanks Intl, RNAV (GPS) Y RWY 19R, Orig-B

Igiugig, AK, Igiugig, RNAV (GPS) RWY 5, Orig

Igiugig, AK, Igiugig, RNAV (GPS) RWY 23, Orig

Iliamna, AK, Iliamna, RNAV (GPS) RWY 7, Amdt 1

Juneau, AK, Juneau Intl, RNAV (GPS) V RWY 8, Orig

Marshall, AK, Marshall Don Hunter Sr, RNAV (GPS)—A, Orig

Marshall, AK, Marshall Don Hunter Sr, RNAV (GPS) RWY 7, Orig

Bakersfield, CA, Meadows Field, ILS OR LOC RWY 30R, Amdt 28

Bakersfield, CA, Meadows Field, NDB RWY 30R, Amdt 7

Bakersfield, CA, Meadows Field, VOR RWY 30R, Amdt 8

Bakersfield, CA, Meadows Field, RNAV (GPS) RWY 30R, Orig

Bakersfield, CA, Meadows Field, GPS RWY 30R, Orig-B, CANCELLED

Napa, CA, Napa County, VOR RWY 6, Amdt 12

Napa, CA, Napa County, RNAV (GPS) RWY 6, Orig

Colorado Springs, CO, City Of Colorado Springs Muni, ILS RWY 17L, Orig

Colorado Springs, CO, City Of Colorado Springs Muni, RNAV (GPS) RWY 17L, Orig

Colorado Springs, CO, City Of Colorado Springs Muni, RNAV (GPS) RWY 17R, Orig

Colorado Springs, CO, City Of Colorado Springs Muni, RNAV (GPS) RWY 30, Orig

Colorado Springs, CO, City Of Colorado Springs Muni, RNAV (GPS) RWY 35R, Orig

Colorado Springs, CO, City Of Colorado Springs Muni, NDB RWY 35L, Amdt 25B

Colorado Springs, CO, City Of Colorado Springs Muni, GPS RWY 17L, Orig, CANCELLED

Colorado Springs, CO, City Of Colorado Springs Muni, GPS RWY 35R, Orig, CANCELLED

Tinian Island, CQ, West Tinian, RNAV (GPS) RWY 8, Orig

Tinian Island, CQ, West Tinian, RNAV (GPS) RWY 26, Orig

Tinian Island, North Mariana Island, CQ, West Tinian, GPS RWY 8, Orig, CANCELLED

Tinian Island, North Mariana Island, CQ, West Tinian, GPS RWY 26, Orig-A, CANCELLED

Marco Island, FL, Marco Island, LOC RWY 17, Orig-A, CANCELLED

Kosrae Island, FM, Kosrae, RNAV (GPS) RWY 5, Orig

Kosrae Island, FM, Kosrae, GPS RWY 23, Amdt 1, CANCELLED

Kosrae Island, FM, Kosrae, GPS RWY 5, Amdt 1, CANCELLED

Kosrae Island, FM, Kosrae, RNAV (GPS) RWY 23, Orig

Pohnpei Island, FM, Pohnpei Intl, RNAV (GPS) RWY 9, Orig

Pohnpei Island, FM, Pohnpei Intl, RNAV (GPS) RWY 27, Orig

Pohnpei Island, FM, Pohnpei Intl, GPS RWY 9, Amdt 1, CANCELLED

Pohnpei Island, FM, Pohnpei Intl, GPS RWY 27, Amdt 1, CANCELLED

Yap Island, FM, Yap Island Intl, RNAV (GPS) RWY 7, Orig

Yap Island, FM, Yap Island Intl, RNAV (GPS) RWY 25, Orig

Yap Island, FM, Yap Island Intl, GPS RWY 7, Amdt 1, CANCELLED

Yap Island, FM, Yap Island Intl, GPS RWY 25, Amdt 1, CANCELLED

Chicago, IL, Merill C. Meigs, VOR/DME-A, Orig, CANCELLED

Chicago, IL, Merill C. Meigs, GPS RWY 36, Amdt 1A, CANCELLED

Eureka, KS, Eureka Muni, RNAV (GPS) RWY 18, Orig

Eureka, KS, Eureka Muni, VOR/DME RWY 18, Amdt 2A

Goodland, KS, Renner Fld/Goodland Muni, ILS OR LOC/DME RWY 30, Orig

Goodland, KS, Renner Fld/Goodland Muni, ILS RWY 30, Amdt 3A, CANCELLED

Goodland, KS, Renner Fld/Goodland Muni, RNAV (GPS) RWY 12, Orig

Goodland, KS, Renner Fld/Goodland Muni, RNAV (GPS) RWY 23, Orig

Goodland, KS, Renner Fld/Goodland Muni, RNAV (GPS) RWY 30, Orig

Goodland, KS, Renner Fld/Goodland Muni, NDB RWY 30, Amdt 7

Goodland, KS, Renner Fld/Goodland Muni, VOR RWY 30, Amdt 8

Goodland, KS, Renner Fld/Goodland Muni, VOR/DME RWY 30, Amdt 7

Wichita, KS, Cessna Aircraft Field, RNAV (GPS)-D, Orig

Wichita, KS, Cessna Aircraft Field, VOR-C, Amdt 1

Augusta, ME, Augusta State, GPS RWY 35, ORIG-A

Majuro Atoll, MH, Marshall Islands Intl, RNAV (GPS) RWY 7, Orig

Majuro Atoll, MH, Marshall Islands Intl, RNAV (GPS) RWY 25, Orig

Majuro Atoll, MH, Marshall Islands Intl, GPS RWY 7, Amdt 1, CANCELLED

Majuro Atoll, MH, Marshall Islands Intl, GPS RWY 25, Amdt 1, CANCELLED

Holland, MI, Tulip City, VOR-A, Amdt 10C

Holland, MI, Tulip City, VOR/DME RNAV RWY 8, Amdt 2B

Holland, MI, Tulip City, ILS OR LOC/DME RWY 26, Orig

Holland, MI, Tulip City, ILS/DME RWY 26, Orig-B, CANCELLED

Holland, MI, Tulip City, RNAV (GPS) RWY 8, Orig

Holland, MI, Tulip City, RNAV (GPS) RWY 26, Amdt 1

Canby, MN, Myers Field, RNAV (GPS) RWY 11, Orig

Menominee, MI, Menominee-Marinette Twin County, RNAV (GPS) RWY 32, Orig

Menominee, MI, Menominee-Marinette Twin County, GPS RWY 32, Orig, CANCELLED

Hatteras, NC, Billy Mitchell, RNAV (GPS) RWY 25, Orig

Hatteras, NC, Billy Mitchell, GPS RWY 25, Amdt 2, CANCELLED

Montgomery, NY, Orange County, ILS RWY 3, Amdt 2

Wooster, OH, Wayne County, NDB RWY 28, Amdt 7C, CANCELLED

Towanda, PA, Bradford County, RNAV (GPS) RWY 23, Orig

Towanda, PA, Bradford County, GPS RWY 23, Orig, CANCELLED

Pierre, SD, Pierre Regional, ILS OR LOC RWY 31, Amdt 11A

Gallatin, TN, Sumner County Regional, RNAV (GPS) RWY 17, Orig

Gallatin, TN, Sumner County Regional, RNAV (GPS) RWY 35, Orig

Gallatin, TN, Sumner County Regional, VOR/DME-A, Amdt 2

Gallatin, TN, Sumner County Regional, GPS RWY 17, Orig, CANCELLED

Gallatin, TN, Sumner County Regional, GPS RWY 35, Orig, CANCELLED

Brownsville, TX, Brownsville/South Padre Island Intl, NDB RWY 13, Amdt 14

Brownsville, TX, Brownsville/South Padre Island Intl, ILS OR LOC RWY 13R, Orig

Brownsville, TX, Brownsville/South Padre Island Intl, ILS RWY 13R, Amdt 11B, CANCELLED

Brownsville, TX, Brownsville/South Padre Island Intl, RNAV (GPS) RWY 13R, Orig

Harlingen, TX, Valley Intl, VOR/DME RWY 17L, Orig

Harlingen, TX, Valley Intl, VOR/DME RWY 17R, Orig

Harlingen, TX, Valley Intl, VOR/DME OR TACAN Y RWY 31, Amdt 1

Harlingen, TX, Valley Intl, VOR/DME Z RWY 31, Orig

Harlingen, TX, Valley Intl, VOR/DME RWY 35L, Orig

Harlingen, TX, Valley Intl, NDB RWY 17L, Amdt 7

Harlingen, TX, Valley Intl, NDB RWY 17R, Amdt 13

Harlingen, TX, Valley Intl, ILS OR LOC RWY 17R, Orig

Harlingen, TX, Valley Intl, ILS RWY 17R, Amdt 12, CANCELLED

Harlingen, TX, Valley Intl, LOC/DME BC RWY 35L, Orig

Harlingen, TX, Valley Intl, RNAV (GPS) RWY 13, Amdt 1

Harlingen, TX, Valley Intl, RNAV (GPS) RWY 17L, Amdt 1

Harlingen, TX, Valley Intl, RNAV (GPS) RWY 17R, Amdt 1

Harlingen, TX, Valley Intl, RNAV (GPS) RWY 31, Amdt 1

Harlingen, TX, Valley Intl, RNAV (GPS) RWY 35L, Amdt 1

Port Isabel, TX, Port Isabel-Cameron County, VOR/DME-B, Amdt 3

Port Isabel, TX, Port Isabel-Cameron County, VOR-A, Amdt 6

Port Isabel, TX, Port Isabel-Cameron County, RNAV (GPS) RWY 13, Orig

Port Isabel, TX, Port Isabel-Cameron County, GPS RWY 13, Orig-A, CANCELLED

Charlottesville, VA, Charlottesville-Albemarle, RNAV (GPS) RWY 21, Orig

Charlottesville, VA, Charlottesville-Albemarle, GPS RWY 21, Orig, CANCELLED

Huntington, UT, Huntington Muni, RNAV (GPS)-C, Orig

Huntington, UT, Huntington Muni, VOR/DME-B, Amdt 1

Chetek, WI, Chetek Muni-Southworth, RNAV (GPS) RWY 17, Orig

Chetek, WI, Chetek Muni-Southworth, RNAV (GPS) RWY 35, Orig

Chetek, WI, Chetek Muni-Southworth, GPS RWY 35, Orig, CANCELLED

Manitowoc, WI, Manitowoc County, VOR RWY 17, Amdt 15

Manitowoc, WI, Manitowoc County, VOR/DME RWY 35, Orig

Manitowoc, WI, Manitowoc County, VOR OR GPS RWY 35, Amdt 14, CANCELLED

Manitowoc, WI, Manitowoc County, RNAV (GPS) RWY 17, Orig

Manitowoc, WI, Manitowoc County, RNAV (GPS) RWY 35, Orig

Afton, WY, Afton Muni, RNAV (GPS) RWY 16, Orig

Afton, WY, Afton Muni, RNAV (GPS) RWY 34, Orig

[FR Doc. 03-22796 Filed 9-8-03; 8:45 am]

BILLING CODE 4910-13-P